ENVIRONMENTAL PROTECTION AGENCY

[EPA-HQ-OPP-2008-0303; FRL-8368-6]

Fenamiphos; Product Registration Cancellation Order

AGENCY: Environmental Protection Agency (EPA).

ACTION: Notice.

SUMMARY: This notice announces EPA's order for the cancellation, voluntarily requested by the registrant and accepted by the Agency, of certain product registrations containing the pesticide fenamiphos, pursuant to section 6(f)(1) of the Federal Insecticide, Fungicide, and Rodenticide Act (FIFRA), as amended. This cancellation order follows an April 23, 2008 Federal Register Notice of Receipt of Request from the fenamiphos registrant to voluntarily cancel certain fenamiphos product registrations. These are the last fenamiphos products registered for use in the United States. In the April 23, 2008 notice, EPA indicated that it would issue an order implementing the cancellations, unless the Agency received substantive comments within the 30 day comment period that would merit its further review of these requests, or unless the registrant withdrew their request within this period. The Agency did not receive any comments on the notice. Further, the registrant did not withdraw their request. Accordingly, EPA hereby issues in this notice a cancellation order granting the requested cancellations. Any distribution, sale, or use of the fenamiphos products subject to this cancellation order is permitted only in accordance with the terms of this order, including any existing stocks provisions.

DATES: The cancellations are effective June 18, 2008.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric @epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0303. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by the registrant, of certain fenamiphos products registered under section 24(c) of FIFRA. These registrations are listed in sequence by registration number in Table 1 of this unit.

Table 1.—Fenamiphos Product Registration Cancellations
Registration No. | Product Name | Chemical Name
PR 97-0002 | Nemacur 15% Granular Systemic Insecticide-Nematicide | Fenamiphos
HI 04-0002 | Nemacur 15% Granular Systemic Insecticide-Nematicide | Fenamiphos
NM 90-0001 | Nemacur 15% Granular Systemic Insecticide-Nematicide | Fenamiphos
PR 97-0001 | Nemacur 3 Emulsifiable Systemic Insecticide-Nematicide | Fenamiphos
PR 97-0005 | Nemacur 3 Emulsifiable Systemic Insecticide-Nematicide | Fenamiphos
WA 76-0034 | Nemacur 3 Emulsifiable Systemic Insecticide-Nematicide | Fenamiphos
FL 84-0019 | Nemacur 3 Emulsifiable Systemic Insecticide-Nematicide | Fenamiphos
HI 04-0001 | Nemacur 3 Emulsifiable Systemic Insecticide-Nematicide | Fenamiphos
OR 04-0021 | Nemacur 3 Emulsifiable Systemic Insecticide-Nematicide | Fenamiphos

Table 2.—Registrants of Canceled Fenamiphos Products
EPA Company Number | Company Name and Address
264 | Bayer CropScience 2 T.W. Alexander Drive P.O. Box 12014 Research Triangle Park, NC 27709

III. Summary of Public Comments Received and Agency Response to Comments

During the public comment period provided, EPA received no comments in response to the April 23, 2008 Federal Register notice announcing the Agency's receipt of the request for voluntary cancellation of certain fenamiphos product registrations.

IV. Cancellation Order

Pursuant to FIFRA section 6(f), EPA hereby approves the requested cancellations of fenamiphos registrations identified in Table 1 of Unit II. Accordingly, the Agency orders that the fenamiphos product registrations identified in Table 1 of Unit II. are hereby canceled. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

Persons other than the registrant may continue to use the affected FIFRA 24(c) labels to apply existing stocks of the previously-cancelled parent Section 3 products, Nemacur 15% Granular Systemic Insecticide-Nematicide and Nemacur 3 Emulsifiable Systemic Insecticide-Nematicide (EPA Reg. Nos. 264-726 and 264-731, respectively), provided such use is consistent with the 24(c) labels, until such existing stocks are exhausted. The registrant is not permitted to sell or distribute the previously-cancelled parent Section 3 products, Nemacur 15% Granular Systemic Insecticide-Nematicide and Nemacur 3 Emulsifiable Systemic Insecticide-Nematicide (EPA Reg. Nos. 264-726 and 264-731, respectively) as of May 31, 2007 in accordance with a December 10, 2003 Federal Register Order (FRL-7332-5) (68 FR 68901). This order also stipulated that sale and distribution of Nemacur 15% Granular Systemic Insecticide-Nematicide by persons other than the registrant is prohibited as of May 31, 2008. Existing stocks of Nemacur 3 Emulsifiable Systemic Insecticide-Nematicide (EPA Reg No. 264-731) already in the hands of dealers or users may be distributed and sold until November 30, 2008 in accordance with a Federal Register Order issued on June 11, 2008 (FRL-8368-2).

List of Subjects

Environmental protection, Pesticides and pests.

Dated: June 10, 2008.
Steven Bradbury,
Director, Special Review and Reregistration Division, Office of Pesticide Programs.

[FR Doc. E8-13623 Filed 6-17-08; 8:45 am]

BILLING CODE 6560-50-S